DEPARTMENT OF JUSTICE

Drug Enforcement Administration

Agency Information Collection Activities: Proposed Collection; Comment Request

ACTION: 60-day notice of information collection under review; Extension of a currently approved collection; Application for Registration (DEA From 224), Application for Registration Renewal (DEA Form 224A) and Affidavit for Chairn Renewal DEA Retail Pharmacy Registration (DEA Form 224B).

The Department of Justice, Drug Enforcement Administration (DEA) has submitted the following information collection request to the Office of Management and Budget (OMB) for review and approval in accordance with the Paperwork Reduction Act of 1995. The proposed information collection is published to obtain comments from the public and affected agencies. Comments are encouraged and will be accepted until August 9, 2002. This process is conducted in accordance with 5 CFR 1320.10.

If you have comments, especially on the estimated public burden or associated response time, suggestions, need a copy of the proposed information collection instrument with instructions or need additional information, please contact Patricia M. Good, Chief, Liaison and Policy Section, Office of Diversion Control, Drug Enforcement Administration, Washington, DC 20537.

Written comments and suggestions are requested from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(e) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of information collection: Extension of a currently approved collection.

(2) The title of the form/collection: Application for Registration (DEA Form 224), Application for Registration Renewal (DEA Form 224A) and Affidavit for Chain Renewal DEA Retail Pharmacy Registration (DEA Form 224B).

(3) The agency form number, if any, and the applicable component of the Department sponsoring the collection: Form No.: DEA Forms 224, 224a and 224B. Applicable component of the Department sponsoring the collection: Office of Diversion Control, Drug Enforcement Administration, U.S. Department of Justice.

(4) Affected public who will be asked or required to respond, as well as a brief abstract: Primary: Business or other for-profit. Other: Not-for-Profit Institutions; State, Local or Tribal Government. All firms and individuals who distribute or dispense controlled substances must register with the DEA under the Controlled Substances Act. Registration is needed for control measures over legal handlers of controlled substances, and is used to monitor their activities.

(5) An estimate of the total number of respondents and the amount of time estimated for an average respondent to respond/reply: There are approximately 67,451 respondents completing DEA Form 224, within 12 minutes for each response, resulting in approximately 13,490 burden hours. There are approximately 357,510 respondents completing DEA Form 224A, within 12 minutes for each response, resulting in approximately 71,502 burden hours. There are approximately 48 respondents completing DEA Form 224B, within 5 hours for each response, resulting approximately 240 burden hours.

(6) An estimate of the total public burden (in hours) associated with the collection: There are a total of approximately 85,232 annual burden hours associated with this information collection.

If additional information is required contact Brenda E. Dyer, Department Deputy Clearance Officer, Information Management and Security Staff, Justice Management Division, Department of Justice, Patrick Henry Building, Suite 1600, 601 D Street NW., Washington, DC 20530.

Dated: June 4, 2002.
Brenda E. Dyer,
Department Deputy Clearance Officer, Department of Justice.

[FR Doc. 02-14444 Filed 6-7-02; 8:45 am]

BILLING CODE 4410-09-M